DEPARTMENT OF TRANSPORTATION

Surface Transportation Board

Information Collection Activities; End-of-Year Railroad Service Outlook

AGENCY: Surface Transportation Board, DOT.

ACTION: Notice and Request for Comments.

SUMMARY: As required by the Paperwork Reduction Act of 1995, 44 U.S.C. 3501-3519 (PRA), the Surface Transportation Board (STB or Board) gives notice of its intent to seek from the Office of Management and Budget (OMB) approval of the information collection resulting from the Board's annual request that Class I carriers and other rail carriers that are members of the American Shortline and Regional Railroad Association (ASLRRA) provide the Board with information about the plans and preparations that these rail carriers have made in anticipation of the increased demand for rail service during the fall peak demand season.

Comments are requested concerning: (1) The accuracy of the Board's burden estimates; (2) ways to enhance the quality, utility, and clarity of the information collected; (3) ways to minimize the burden of the collection of information on the respondents, including the use of automated collection techniques or other forms of information technology when appropriate; and (4) whether the collection of information is necessary for the proper performance of the functions of the Board, including whether the collection has practical utility. Submitted comments will be summarized and included in the Board's request for OMB approval.

Description of Collection

Title: End-of-Year Railroad Service Outlook.

OMB Control Number: 2140-XXXX.

STB Form Number: None.

Type of Review: Existing collection in use without an OMB control number.

Respondents: The Class I rail carriers and carriers that are members of ASLRRA.

Number of Respondents: An average of 11 carriers respond to this request to voluntarily provide this information.

Frequency: Once per year.

Total Burden Hours (annually including all respondents): We estimate a total of 333 hours for all responding carriers (30.3 hours per response × 11 respondents).

Total “Non-hour Burden” Cost: Because respondents email their response letters to the Board, there are no non-hour costs to respondents.

Needs and Uses: The shipping community and our economy as a whole depend on reliable and efficient freight rail service. The Board and rail shippers need to understand how carriers plan to meet the increased demand for rail service during the fall peak demand season, including capital plans for relieving bottlenecks. For several years, the STB has asked Class I railroads, along with the American Short Line and Regional Railroad Association (ASLRRA) member railroads, to provide a forward-looking assessment of their ability to meet end-of-year business demands for rail service, which typically increase during the fall shipping season. The Board uses this information to monitor efforts by the country's rail carriers to meet the increased fall peak demand for rail service. The Congressional Budget Office has praised the Board's efforts in monitoring the fall peak seasonal demand for rail service and has said that it “may have prompted the railroads to enhance their efforts to meet demand.”

DATES: Comments on this information collection should be submitted by August 23, 2013.

ADDRESSES: Direct all comments to Marilyn Levitt, Surface Transportation Board, 395 E Street SW., Washington, DC 20423-0001, or to levittm@stb.dot.gov. When submitting comments, please refer to “End-of-Year Railroad Service Outlook.”

FOR FURTHER INFORMATION CONTACT: Marilyn Levitt at (202) 245-0269 or at levittm@stb.dot.gov. [Assistance for the hearing impaired is available through the Federal Information Relay Service (FIRS) at 1-800-877-8339.] This collection, as well as instructions for the collection, are available on the Board's Web site at <http://www.stb.dot.gov/PeakLetters1.nsf/2012?OpenPage>.

SUPPLEMENTARY INFORMATION: Under the PRA, a Federal agency conducting or sponsoring a collection of information must display a currently valid OMB control number. A collection of information, which is defined in 44 U.S.C. 3502(3) and 5 CFR 1320.3(c), includes agency requirements or requests that persons submit reports, keep records, or provide information to the agency, third parties, or the public. Under § 3506(c)(2)(A) of the PRA, Federal agencies are required to provide, prior to an agency's submitting a collection to OMB for approval, a 60-day notice and comment period through publication in the Federal Register concerning each proposed collection of information, including each proposed extension of an existing collection of information.

Dated: June 18, 2013.
Jeffrey Herzig,
Clearance Clerk.

[FR Doc. 2013-14948 Filed 6-21-13; 8:45 am]

BILLING CODE 4915-01-P